DEPARTMENT OF DEFENSE

Office of the Secretary

Charter Renewal of Department of Defense Federal Advisory Committees

AGENCY: Department of Defense (DoD).

ACTION: Renewal of Federal Advisory Committee.

SUMMARY: The DoD is publishing this notice to announce that it is renewing the charter for the United States Strategic Command Strategic Advisory Group (“the Group”).

FOR FURTHER INFORMATION CONTACT: Jim Freeman, Advisory Committee Management Officer for the Department of Defense, 703-692-5952.

SUPPLEMENTARY INFORMATION: The Group's charter is being renewed in accordance with the Federal Advisory Committee Act (FACA) (5 U.S.C., Appendix) and 41 CFR 102-3.50(d). The charter and contact information for the Group's Designated Federal Officer (DFO) are found at https://www.facadatabase.gov/FACA/apex/FACAPublicAgencyNavigation.

The Group shall provide the Secretary of Defense and the Deputy Secretary of Defense with independent advice and recommendations related to the United States Strategic Command (USSTRATCOM) and its operations. The Group shall: (a) Provide advice and recommendations on scientific, technical, intelligence, and policy-related matters of interest to the Joint Chiefs of Staff and USSTRATCOM concerning the development and implementation of the Nation's strategic war pans; (b) Enhancements in USSTRATCOM's mission area responsibilities; and Other matters related to the Nation's strategic forces, as requested by the Chairman of the Joint Chiefs of Staff or the Commander, USSTRATCOM.

The Group shall be composed of no more than 20 members who are eminent authorities in the fields of strategic policy formulation, nuclear weapon design; national command; control, communications, intelligence, and information operations; or other important aspects of the Nation's strategic forces.

Group members who are not full-time or permanent part-time Federal civilian officers, employees, or active duty members of the Armed Forces will be appointed as experts or consultants, pursuant to 5 U.S.C. 3109, to serve as special government employee members. Group members who are full-time or permanent part-time Federal civilian officers, employees, or active duty members of the Armed Forces will be appointed pursuant to 41 CFR 102-3.130(a), to serve as regular government employee members.

All members of the Group are appointed to provide advice on the basis of their best judgment without representing any particular point of view and in a manner that is free from conflict of interest. Except for reimbursement of official Group related travel and per diem, members serve without compensation.

The public or interested organizations may submit written statements to the Group membership about the Group's mission and functions. Written statements may be submitted at any time or in response to the stated agenda of planned meeting of the Group. All written statements shall be submitted to the DFO for the Group, and this individual will ensure that the written statements are provided to the membership for their consideration.

Dated: May 22, 2020.
Aaron T. Siegel,
Alternate OSD Federal Register,Liaison Officer, Department of Defense.

[FR Doc. 2020-11439 Filed 5-27-20; 8:45 am]

BILLING CODE 5001-06-P